DEPARTMENT OF HEALTH AND HUMAN SERVICES

National Institutes of Health

Notice of Meeting: Secretary's Advisory Committee on Genetics, Health, and Society

Pursuant to Public Law 92-463, notice is hereby given of the twentieth meeting of the Secretary's Advisory Committee on Genetics, Health, and Society (SACGHS), U.S. Public Health Service. The meeting will be held from 8:30 a.m. to approximately 6 p.m. on Thursday, October 8, 2009, and from 8 a.m. to approximately 3:30 p.m. on Friday, October 9, 2009, at the Hubert H. Humphrey Building, 200 Independence Avenue, SW., Washington, DC 20201. The meeting will be open to the public with attendance limited to space available. The meeting also will be Web cast.

The main agenda items involve the review of three SACGHS draft reports: a final draft report and its recommendations on gene patents and licensing practices along with comments received on the public consultation draft circulated earlier this year; a public consultation draft report on genetics education and training; and a revised draft paper on direct-to-consumer genetic testing. The first day of the meeting will include an extended period of time for interested members of the public to provide their perspectives on gene patents and licensing practices and their effect on patient access to genetic tests. Members of the public are encouraged to contact the SACGHS Executive Secretary (see below) by September 15, 2009, if they wish to participate in this extended public comment period. Other agenda items include an update on regulations implementing the Genetic Information Nondiscrimination Act, a report on activities of the Clinical Utility and Comparative Effectiveness Task Force, and a brief discussion to initiate the Committee's work on ethical issues related to genomic data sharing.

As always, the Committee welcomes hearing from anyone wishing to provide public comment on any issue related to genetics, health and society. Individuals who would like to provide public comment should notify the SACGHS Executive Secretary, Ms. Sarah Carr, by telephone at 301-496-9838 or e-mail at carrs@od.nih.gov. The SACGHS office is located at 6705 Rockledge Drive, Suite 750, Bethesda, MD 20892. Anyone planning to attend the meeting who needs special assistance, such as sign language interpretation or other reasonable accommodations, is also asked to contact the Executive Secretary.

Under authority of 42 U.S.C. 217a, Section 222 of the Public Health Service Act, as amended, the Department of Health and Human Services established SACGHS to serve as a public forum for deliberations on the broad range of human health and societal issues raised by the development and use of genetic and genomic technologies and, as warranted, to provide advice on these issues. The draft meeting agenda and other information about SACGHS, including information about access to the Web cast, will be available at the following Web site: http://oba.od.nih.gov/SACGHS/sacghs_meetings.html.

Dated: August 10, 2009.
Jennifer Spaeth,
Director, NIH Office of Federal Advisory Committee Policy.

[FR Doc. E9-19583 Filed 8-14-09; 8:45 am]

BILLING CODE 4140-01-P